DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR Part 236, as detailed below.

Docket Number FRA-2009-0037.

Applicant: Norfolk Southern Corporation, Mr. B. L. Sykes, Chief Engineer C&S Engineering, Communications & Signal Department, 1200 Peachtree Street, N.E.—Box 123, Atlanta, Georgia 30309.

The Norfolk Southern Corporation (NS) request a waiver pertaining to the use of a device for automated execution of certain FRA required tests made at interlockings and control points on the NS system.

The reasons given for the proposed waiver is to permit NS to use the automated test system, known as the InterTest® system, for subject testing in lieu of tests being performed manually, as well as to permit use of electronic signature for documentation and storage of results of tests performed during two year and in service testing.

The InterTest® system is a processor-based system that performs testing by electronically exercising the inputs to the interlocking and control point locking circuitry in a manner which replicates that done by humans during a manual test. The interlocking tester consists of three subsystems that are tied together by a central control computer.

NS proposes to use the automated tester to make the following FRA required 2-year tests: 49 CFR 236.378—Time Locking; 49 CFR 236.379—Route Locking; 49 CFR 236.380—Indication Locking;

NS proposes to use the automated tester to make the following in service tests: 49 CFR 236.201—Track circuit control of signals; 49 CFR 236.202—Signal governing movements over hand- operated switch; 49 CFR 236.204—Track signaled for movements in both directions, requirements; 49 CFR 236.402—Signals controlled by track circuits and control operator; 49 CFR 236.403—Signals at control point; 49 CFR 236.404—Signal at adjacent control points; 49 CFR 236.405—Track signaled for movements in both directions, change of direction of traffic; 49 CFR 236.107—Ground Tests; and to create and maintain records of tests according to 49 CFR 236.110—Results of tests.

Any interested party desiring to protest the granting of an application shall set forth specifically the grounds upon which the protest is made, and include a concise statement of the interest of the party in the proceeding. Additionally, one copy of the protest shall be furnished to the applicant at the address listed above.

FRA expects to be able to determine these matters without an oral hearing. However, if a specific request for an oral hearing is accompanied by a showing that the party is unable to adequately present his or her position by written statements, an application may be set for public hearing.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0037) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC; on May 22, 2009.
Grady C. Cothen, Jr.,
Deputy Associate Administrator for Safety Standards and Program Development.

[FR Doc. E9-12423 Filed 5-28-09; 8:45 am]

BILLING CODE 4910-06-P